DEPARTMENT OF TRANSPORTATION

Federal Aviation Administration

14 CFR Part 97

[Docket No. 30247; Amdt. No. 2050]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—

Individual SIAP copies may be obtained from:

1. FAA Public Inquiry Center (APA-200), FAA Headquarters Building, 800 Independence Avenue, SW., Washington, DC 20591; or

2. The FAA Regional Office of the region in which the affected airport is located.

By Subscription—

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169

ADDRESSES: (Mail P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on May 11, 2001.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective July 12, 2001

Bethel, AK, Bethel, VOR RWY 36, Amdt 7A, CANCELLED

St George, AK, St George, ILS RWY 11, Orig

St. Mary's, AK, St. Mary's, RNAV (GPS) RWY 16, Orig

St. Mary's, AK, St. Mary's GPS RWY 16, Amdt 1, CANCELLED

Washington, DC, Ronald Regan Washington National, VOR/DME RNAV OR GPS-A, Amdt 6A, CANCELLED

Fort Myers, FL, Southwest Florida Intl, RADAR-1, Amdt 6

Fort Meyers, FL, Page Field, RADAR-1, Amdt 3

Jasper, GA Pickens County, NDB RWY 34, Orig

Belleville, IL, Scott AFB/Midamerica, ILS RWY 14R, Orig

Salem, IL, Salem-Leckrone, NDB RWY 18, Amdt 10

Salem, IL, Salem-Leckrone, RNAV (GPS) RWY 18, Orig

Salem, IL, Salem-Leckrone, RNAV (GPS) RWY 36, Orig

Salem, IL Salem-Leckrone, GPS RWY 18, Orig, CANCELLED

Lexington, KY, Blue Grass, RNAV (GPS) RWY 4, Orig

Lexington, KY, Blue Grass, RNAV (GPS) RWY 8, Orig

Lexington, KY, Blue Grass, RNAV (GPS) RWY 22, Orig

Lexington, KY, Blue Grass, RNAV (GPS) RWY 26, Orig

Houma, LA, Houma-Terrebonne, VOR/DME RNAV 36, Amdt 4, CANCELLED

Bedford, MA, Laurence G. Hanscom Field, ILS RWY 29, Amdt 5

Baudette, MN, Baudette Intl, VOR RWY 30, Amdt 10

Baudette, MN, Baudette Intl, VOR/DME RWY 12, Amdt 5

Baudette, MN, Baudette Intl, RNAV (GPS) RWY 30, Orig

Olive Branch, MS, Olive Branch, RNAV (GPS) RWY 18, Orig

Kenansville, NC, Duplin County, LOC RWY 22, Orig

Kenansville, NC, Duplin County, LOC RWY 22, Orig-B, CANCELLED

Kenansville, NC, Duplin County, NDB RWY 22, Amdt 5B, CANCELLED

Kenansville, NC, Duplin County, NDB RWY 22, Orig

Philadelphia, PA, Philadelphia Intl, RADAR-1, Amdt 17, CANCELLED

Salt Lake City, UT, Salt Lake City Intl, ILS RWY 16L, Orig

Salt Lake City, UT, Salt Lake City Intl, ILS/DME RWY 16L, Amdt 12A, CANCELLED

Salt Lake City, UT, Salt Lake City Intl, ILS RWY 16R, Orig

Salt Lake City, UT, Salt Lake City Intl, ILS/DME RWY 16R, Amdt 3A, CANCELLED

Salt Lake City, UT, Salt Lake City Intl, ILS RWY 17, Amdt 12

Salt Lake City, UT, Salt Lake City Intl, RNAV (GPS) RWY 16L, Orig

Salt Lake City, UT, Salt Lake City Intl, RNAV (GPS) RWY 16R, Orig

Salt Lake City, UT, Salt Lake City Intl, GPS RWY 16L, Orig-A, CANCELLED

Salt Lake City, UT, Salt Lake City Intl, GPS RWY 17, Orig-B CANCELLED

Salt Lake City, UT, Salt Lake City Intl, RNAV (GPS) RWY 17 Orig

Green Bay, WI, Austin Straubel Intl, RNAV (GPS) RWY 6, Amdt 1

Green Bay, WI, Austin Straubel Intl, RNAV (GPS) RWY 18, Orig

Green Bay, WI, Austin Straubel Intl, RNAV (GPS) RWY 24, Orig

Green Bay, WI, Austin Straubel Intl, RNAV (GPS) RWY 36, Amdt 1

The FAA published an Amendment in Docket No. 30245, Amdt No. 2048 to Part 97 of the Federal Aviation Regulations (Vol 66, FR No. 87, Page 22438; dated May 4, 2001) Under section 97.33 effective July 12, 2001, which is hereby amended as follows:

Colby, KS, Shaltz Field, RNAV RWY 17, ORIG

Colby, KS, Shaltz Field, RNAV RWY 35, ORIG

Should read:

Colby, KS, Shaltz Field, RNAV (GPS) RWY 17, ORIG

Colby, KS, Shaltz Field, RNAV (GPS) RWY 35, ORIG

[FR Doc. 01-12486 Filed 5-16-01; 8:45 am]

BILLING CODE 4910-13-M